FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 10, 2009.

A. Federal Reserve Bank of Chicago (Colette A. Fried, Assistant Vice President) 230 South LaSalle Street, Chicago, Illinois 60690-1414:

1. Mackinaw Farms LLC; Armory Partners II LLC, both of Champaign, Illinois; Elisabeth Meyer Kimmel, La Jolla, California, individually and as trustee of the Elisabeth Meyer Kimmel 2009 Grantor Retained Annuity Trust 1, the Elisabeth Meyer Kimmel 2009 Grantor Retained Annuity Trust 2 and the Elisabeth Meyer Kimmel 2009 Grantor Retained Annuity Trust 3; August C. Meyer, Jr., Champaign, Illinois, individually and as trustee of the August C. Meyer, Jr. 2009 Grantor Retained Annuity Trust 1, the August C. Meyer, Jr. 2009 Grantor Retained Annuity Trust 2, the August C. Meyer, Jr. 2009 Grantor Retained Annuity Trust 3, the Katharine Clara Kimmel Exempt Trust C/U Elisabeth M. Kimmel 2002 Special Trust, the John August Kimmel Exempt Trust C/U Elisabeth M. Kimmel 2002 Special Trust, the Thomas Conrad Kimmel Exempt Trust C/U Elisabeth M. Kimmel 2002 Special Trust, the Katharine Clara Kimmel Trust C/U Elisabeth M. Kimmel 2002-1 Grantor Retained Annuity Trust, the John August Kimmel Trust C/U Elisabeth M. Kimmel 2002-1 Grantor Retained Annuity Trust and the Thomas Conrad Kimmel Trust C/U Elisabeth M. Kimmel 2002-1 Grantor Retained Annuity Trust; Inna A. Meyer, St. Petersburg, Russia; Gregory B. Lykins, individually and as trustee of the August C. F. Meyer Exempt Trust U/A of August C. Meyer, Jr. 2001 Special Trust and the Elisabeth Meyer Kimmel Exempt Trust U/A of August C. Meyer, Jr. 2001 Special Trust; Margo L. Lykins; the August C. Meyer, Jr. 2009 Grantor Retained Annuity Trust 1; the August C. Meyer, Jr. 2009 Grantor Retained Annuity Trust 2; the August C. Meyer, Jr. 2009 Grantor Retained Annuity Trust 3; the Elisabeth Meyer Kimmel 2009 Grantor Retained Annuity Trust 1; the Elisabeth Meyer Kimmel 2009 Grantor Retained Annuity Trust 2; the Elisabeth Meyer Kimmel 2009 Grantor Retained Annuity Trust 3; the Katharine Clara Kimmel Exempt Trust C/U Elisabeth M. Kimmel 2002 Special Trust; the John August Kimmel Exempt Trust C/U Elisabeth M. Kimmel 2002 Special Trust; the Thomas Conrad Kimmel Exempt Trust C/U Elisabeth M. Kimmel 2002 Special Trust; the Katharine Clara Kimmel Trust C/U Elisabeth M. Kimmel 2002-1 Grantor Retained Annuity Trust; the John August Kimmel Trust C/U Elisabeth M. Kimmel 2002-1 Grantor Retained Annuity Trust; the Thomas Conrad Kimmel Trust C/U Elisabeth M. Kimmel 2002-1 Grantor Retained Annuity Trust; the August C. F. Meyer Exempt Trust U/A of August C. Meyer, Jr. 2001 Special Trust; and the Elisabeth Meyer Kimmel Exempt Trust U/A of August C. Meyer, Jr. 2001 Special Trust, all of Champaign, Illinois; to retain 10 percent or more of the voting shares, and to acquire additional voting shares of First Busey Corporation, Urbana, Illinois, and thereby indirectly retain and acquire additional voting shares of Busey Bank, Champaign, Illinois, and Busey Bank, National Association, Fort Myers, Florida.

B. Federal Reserve Bank of Kansas City (Todd Offenbacker, Assistant Vice President) 1 Memorial Drive, Kansas City, Missouri 64198-0001:

1. Richard A. Jensen, WaKeeney, Kansas; David J. Steeples, Stockton, Kansas; Lila J. Alexander, Houston, Texas; all as trustees; Brian J. Berkley GST Trust; and James E. Berkley GST Trust, both of Stockton, Kansas; as members of the Berkley family group, to retain control of Relianz Bancshares, Inc., and thereby indirectly retain control of RelianzBank, both of Wichita, Kansas.

In connection with this application, Vicki A. Berkley, Stockton, Kansas, as trustee, has applied to acquire individual control of Relianz Bancshares, Inc., and thereby indirectly acquire control of RelianzBank, both in Wichita, Kansas.

C. Federal Reserve Bank of Dallas (E. Ann Worthy, Vice President) 2200 North Pearl Street, Dallas, Texas 75201-2272:

1. Aim Bancshares, Inc. 401(k) and Employee Stock Ownership Plan, Scott Wade, and Kenneth Willmon, all of Levelland, Texas; as Trustees, to acquire voting shares of Aim Bancshares, Inc., Levelland, Texas, and thereby indirectly acquire voting shares of AimBank, Littlefield, Texas.

Board of Governors of the Federal Reserve System, August 21, 2009.
Margaret McCloskey Shanks,
Associate Secretary of the Board.

[FR Doc. E9-20560 Filed 8-25-09; 8:45 am]

BILLING CODE 6210-01-S